FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011788.

Title: Green/Seatrade Cooperative Working Agreement.

Parties:

Green Chartering AS

Seatrade Group N.V.

Synopsis: The proposed agreement establishes a vessel-sharing agreement for the transportation of refrigerated cargoes from United States East and Gulf ports to ports in Northern Europe.

Agreement No.: 201072-003.

Title: New Orleans-Americana Ships Group Crane Lease Agreement.

Parties:

Board of Commissioners of the Port of New Orleans

Americana Ships and Affiliates.

Synopsis: The amendment revises crane usage payments and extends the agreement through December 31, 2002.

Agreement No.: 201073-003.

Title: New Orleans/Cosco-K Line-Yang Ming Crane Rental Agreement.

Parties:

Board of Commissioners of the Port of New Orleans,

Cosco North America, Inc.,

“K” Line America, Inc.,

Yang Ming Line.

Synopsis: The amendment revises crane usage payments and extends the agreement through December 31, 2002.

Dated: January 25, 2002.
By Order of the Federal Maritime Commission.
Bryant L. VanBrakle,
Secretary.

[FR Doc. 02-2274 Filed 1-30-02; 8:45 am]

BILLING CODE 6730-01-P